SOCIAL SECURITY ADMINISTRATION

[Docket No: SSA-2021-0011]

Agency Information Collection Activities: Proposed Request and Comment Request

The Social Security Administration (SSA) publishes a list of information collection packages requiring clearance by the Office of Management and Budget (OMB) in compliance with Public Law 104-13, the Paperwork Reduction Act of 1995, effective October 1, 1995. This notice includes a new collection, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0011].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2021-0011].

I. The information collections below are pending at SSA. SSA will submit them to OMB within 60 days from the date of this notice. To be sure we consider your comments, we must receive them no later than June 28, 2021. Individuals can obtain copies of the collection instruments by writing to the above email address.

1. Work-Disability Functional Assessment Battery (WD-FAB)—0960-NEW.

Background

SSA uses continuing disability reviews (CDR) to determine continued eligibility of program benefits for Social Security disability insurance (SSDI), and Supplemental Security Income (SSI) recipients. SSA is requesting clearance to administer the Work-Disability Functional Assessment Battery (WD-FAB) assessment to a sample of working-age SSDI and SSI program recipients who are due for their CDR. The WD-FAB is a self-reported assessment measuring whole person-functioning at the activity level for eight work-related functional domains: (1) Basic Mobility; (2) Upper Body Function; (3) Fine Motor Function; (4) Community Mobility; (5) Communication and Cognition; (6) Resilience and Sociability; (7) Self- Regulation; and (8) Mood and Emotion. SSA will use the data the WD-FAB collects to assess the feasibility and value of incorporating the WD-FAB into SSA's CDR process with the intent of improving the CDR process. Section 1110(a) of the Social Security Act (Act) gives the Commissioner of Social Security the authority to help fund research or demonstration projects relating to the prevention and reduction of dependency. SSA contracted with Westat to conduct the WD-FAB data collection.

WD-FAB Project Description

To assess the feasibility of incorporating the WD-FAB into the CDR process, this study will conduct two assessments. The first assessment is a baseline assessment of the WD-FAB and the second assessment, which we will conduct with the same individuals six months later, will detect any changes. Each survey will include three main components: Classification questions, WD-FAB questions, and follow-up questions. The classification questions and WD-FAB questions will be identical in each survey.

Survey 1 will cover questions in the following domains:

• Classification questions:

○ Demographic questions (age, gender, race, ethnicity, marital status, highest level of education completed);

○ Questions on general health, mental health status, and work-limiting conditions;

○ 4-item set of Healthy Days core questions included in the state-based Behavioral Risk Factor Surveillance System;

○ Questions from Form SSA-455;

• Veterans Item Health Survey;

• Items from WD-FAB; and

• 3-5 follow-up questions to solicit feedback on the WD-FAB about ease of use, clarity of instructions, and perceived burden.

Survey 2 will include the same classification questions included in Survey 1, and we will record responses using the WD-FAB Computer Assisted Telephone (CAT) system. CAT interviewers and respondents who complete the surveys via the web will access the same web version of the survey instruments ensuring data consistency between these two modes of data collection. The CAT methodology uses a computer interface that rapidly tailors questions to the unique ability level of each claimant, allowing for fewer items to be administered, while providing an assessment that is proven to be accurate, precise, comprehensive, and efficient. Follow-up questions for Survey 2 will include 52 effort and symptom validity questions to examine certain symptoms related to function.

Data collection for Survey 1 will begin in November 2021 and extend for 12 weeks through January 2022. The target goal for Survey 1 is to obtain 2,400 completed surveys from a participant pool of at least 4,000 beneficiaries.

Data collection for Survey 2 will begin in April 2022, approximately 6 months after Survey 1, and continue for 3 months through June 2022. For Survey 2, we will initiate contact with the 2,400 beneficiaries who complete Survey 1. The target goal for Survey 2 is to obtain 1,600 completed surveys.

Recruitment

Participant recruitment will include multiple modes of contact. We will initiate contact by mailing a study invitation package. The study invitation package will include the following items:

1. An invitation letter explaining the study and notifying selected recipients that we will call them soon;

2. A study consent form explaining the background of the study, what will happen during the study, the risks and benefits associated with participating, and their rights as a study participant; and

3. Instructions to download the study smartphone app to facilitate study participation.

Following the mailing of the study invitation package, we will call recipients to conduct a short screener to ensure we are speaking to the sampled recipient and confirm that the recipient is eligible for the study. Eligibility criteria include aged 18 or over, ability to understand English, and ability to provide informed consent.

To assess ability to provide informed consent, interviewers will read aloud a brief description of the study and then ask participants to name one thing participation involves. This vetted question will be a check for cognitive ability to provide consent. Failure to name one thing will deem the recipient ineligible for the study due to inability to provide informed consent.

If the recipient is able to provide informed consent, the interviewer will review the main points on the consent form over the phone with the beneficiary. This will include:

• The voluntary nature of the study;

• That the study will not directly benefit them;

• Their rights as study participants;

• That they can withdraw at any time;

• Information on who to call if they have questions about their rights as research participants.

The interviewer will then ask the recipient if they want to participate in the study and collect verbal informed consent. After collecting consent, interviewers will collect contact information from the recipient including home address, preferred telephone numbers, and email addresses. Interviewers will obtain permission to send reminders via text message for respondents with cell phones. We will send electronic reminders to participants about survey completion and to keep in touch with respondents between each wave of data collection. We will confirm the recipient's address to mail incentives after survey completion.

At the close of the screener, recipients will have the option of completing the survey online themselves or over the telephone with an interviewer. Recipients who opt to do the survey with an interviewer on the phone will be given the opportunity to do the survey immediately following the screener, or at a later date and time that is convenient for the recipient. The interviewer will schedule an appointment to call the recipient at their preferred date and time. We will ask recipients who opt to complete the survey on the web to provide a valid email address where they can receive information about how to access the web survey. The recipient will receive an email with the survey URL and instructions for logging on. Recipients who elect to complete Survey 1 or Survey 2 on their own via the web will also receive email reminders if they have not started the web survey within four days and another emailed reminder on day 5. We will administer the eligibility screener via telephone and obtain consent prior to each survey.

Survey participants will receive a gift card in the amount of $50 and $75 as a reimbursement for completing Survey 1 and Survey 2, respectively. The respondents are Study participants who are receiving SSA disability payments.

Type of Request: Request for a new information collection.

WD-FAB Survey 1
Modality of completion | Number of respondents | Frequency of response | Average burden per response (minutes) | Estimated total annual burden (hours) | Average theoretical hourly cost amount (dollars) * | Total annual opportunity cost (dollars) **
Survey 1 competency screening and informed consent | 4,500 | 1 | 5 | 375 | * $10.95 | ** $4,106
Survey 1 (respondents) | 5,600 | 1 | 50 | 4,667 | * 10.95 | ** 51,104
Total | 10,100 |  |  | 5,042 |  | 55,210

WD-FAB Survey 2
Modality of completion | Number of respondents | Frequency of response | Average burden per response (minutes) | Estimated total annual burden (hours) | Average theoretical hourly cost amount (dollars) * | Total annual opportunity cost (dollars) **
Survey 2 competency screener | 2,400 | 1 | 5 | 200 | * $10.95 | ** $2,190
Survey 2 (respondents) | 3,200 | 1 | 75 | 4,000 | *10.95 | ** 43,800
Total | 5,600 |  |  | 4,200 |  | 45,990

WD-FAB Grand Total Burden Figures
Modality of completion | Number of respondents | Frequency of response | Average burden per response (minutes) | Estimated total annual burden (hours) | Average theoretical hourly cost amount (dollars) * | Total annual opportunity cost (dollars) **
Totals | 15,700 |  |  | 9,242 |  | $101,200
* We based this figure on the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

2. Authorization for the Social Security Administration to Obtain Account Records from a Financial Institution and Request for Records (Medicare)—20 CFR 418.3420—0960-0729. The Medicare Prescription Drug, Improvement, and Modernization Act of 2003 (MMA) established the Medicare Part D program for voluntary prescription drug coverage of premium, deductible, and copayment costs for individuals with limited income and resources. The MMA mandates that the Government provide subsidies for those individuals who qualify for the program, and who meet eligibility criteria for help with premium, deductible, or co-payment costs. SSA uses the SSA-4640, Authorization for the Social Security Administration to Obtain Account Records from a Financial Institution and Request for Records (Medicare), to determine if subsidy applicants or recipients qualify, or continue to qualify, for the subsidy. SSA uses Form SSA-4640 to: (1) Obtain the individual's consent to verify balances of financial institution (FI) accounts; and (2) obtain verification of such balances from the FI. Respondents are Medicare Part D program subsidy applicants or claimants, and their financial institutions.

Type of Request: Revision of an OMB-approved information collection.

Modality of completion | Number of respondents | Frequency of response | Average burden per response (minutes) | Estimated total annual burden (hours) | Average theoretical hourly cost amount (dollars) * | Total annual opportunity cost (dollars) **
Medicare Part D Subsidy Applicants | 5,000 | 1 | 1 | 83 | * $10.95 | ** $909
Financial Institutions | 5,000 | 1 | 4 | 333 | * 37.56 | ** 12,507
Totals | 10,000 |  |  | 416 |  | ** 13,416
* We based these figures on the average DI payments based on SSA's current FY 2021 data (https://www.ssa.gov/legislation/2021FactSheet.pdf), and the average Business and Financial operations occupations, as reported by Bureau of Labor Statistics data (https://www.bls.gov/oes/current/oes130000.htm).
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than May 28, 2021. Individuals can obtain copies of these OMB clearance packages by writing to OR.Reports.Clearance@ssa.gov.

1. Supplement to Claim of Person Outside the United States—20 CFR 422.505(b), 404.460, 404.463, and 42 CFR 407.27(c)—0960-0051. Claimants or beneficiaries (both United States (U.S.) citizens and aliens entitled to benefits) living outside the U.S. complete Form SSA-21 as a supplement to an application for benefits. SSA collects the information to determine eligibility for U.S. Social Security benefits for those months an alien beneficiary or claimant is outside the U.S., and to determine if tax withholding applies. In addition, SSA uses the information to: (1) Allow beneficiaries or claimants to request a special payment exception in an SSA restricted country; (2) terminate supplemental medical insurance coverage for recipients who request it because they are, or will be, out of the U.S.; and (3) allow claimants to collect a lump sum death benefit if the number holder died outside the United States and we do not have information to determine whether the lump sum death benefit is payable under the Act. The respondents are Social Security claimants, or individuals entitled to Social Security benefits, who are, were, or will be residing outside the United States for three months or longer.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Paper version—U.S. Residents | 360 | 1 | 14 | 84 | * $10.95 | ** 24 | *** $2,497
Paper version—Residents of a Tax Treaty Country | 1,978 | 1 | 9 | 297 | * 10.95 |  | *** 3,252
Paper version—Nonresident aliens | 1,379 | 1 | 8 | 184 | * 10.95 |  | *** 2,015
Intranet version—(MCS)—U.S. Residents | 441 | 1 | 11 | 81 | * 10.95 |  | *** 887
Intranet version—(MCS)—Residents of a Tax Treaty Country | 2,426 | 1 | 6 | 243 | * 10.95 |  | *** 2,661
Intranet version—(MCS)—Nonresident aliens | 1,691 | 1 | 5 | 141 | * 10.95 |  | *** 1,544
Totals | 8,275 |  |  | 1,030 |  |  | *** 12,856
* We based this figure on the average DI payments based on SSA's current FY 2021 data (https://www.ssa.gov/legislation/2021FactSheet.pdf).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

2. You Can Make Your Payment by Credit Card—0960-0462. Using information from Form SSA-4588 and its electronic application, Form SSA-4589, SSA updates individuals' Social Security records to reflect payments made on their overpayments. In addition, SSA uses this information to process payments through the appropriate credit card company. SSA provides the SSA-4588 when we inform an individual that we detected an overpayment. Individuals may choose to make a one-time payment or recurring monthly payments by completing and submitting the SSA-4588. SSA uses the SSA-4589 electronic Intranet application only when individuals choose to telephone the Program Service Centers to make a one-time payment in lieu of completing Form SSA-4588. An SSA debtor contact representative completes the SSA-4589 electronic Intranet application. Respondents are Old Age Survivors and Disability Insurance (OASDI) beneficiaries and SSI recipients who have outstanding overpayments.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-4588 (Paper) | 16,500 | 1 | 10 | 2,750 | * $10.95 | 24 | *** $102,383
SSA-4589 (Electronic Intranet Application) | 258,500 | 1 | 5 | 21,542 | * 10.95 |  | *** 235,885
Totals | 275,000 |  |  | 24,292 |  |  | *** 338,268
* We based this figure on the average DI payments based on SSA's current FY 2021 data (https://www.ssa.gov/legislation/2021FactSheet.pdf).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

3. Screen Pop—20 CFR 401.45—0960-0790. Section 205(a) of the Act requires SSA to verify the identity of individuals who request a record or information pertaining to themselves, and to establish procedures for disclosing personal information. SSA established Screen Pop, an automated telephone process, to speed up verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the N8NN agent, the agent can use the SSN to access the caller's record as needed. The respondents for this collection are individuals who contact SSA's N8NN to speak with an agent.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Screen Pop | 50,487,044 | 1 | 1 | 841,451 | * $25.72 | ** 17 | *** $389,558,027
* We based this figure on average U.S. worker's hourly wages, as reported by Bureau of Labor Statistics data (https://www.bls.gov/oes/current/oes_nat.htm).
** We based this figure on the average FY 2021 wait times for teleservice centers, based on SSA's current management information data.
*** This figure does not represent actual costs that SSA is imposing on recipients of Social Security payments to complete this application; rather, these are theoretical opportunity costs for the additional time respondents will spend to complete the application. There is no actual charge to respondents to complete the application.

4. Application for Access to SSA Systems—20 CFR 401.45—0960-0791. SSA uses Form SSA-120, Application for Access to SSA Systems, to allow limited access to SSA's information resources for SSA employees and non-Federal employees (contractors). SSA requires supervisory approval, and local or component Security Officer review prior to granting this access. The respondents are SSA employees and non-Federal Employees (contractors) who require access to SSA systems to perform their jobs. Note: Because SSA employees are Federal workers exempt from the requirements of the Paperwork Reduction Act, the burden below is only for SSA contractors.

Type of Request: Revision of an OMB-approved information collection.

Modality of completion | Number of respondents | Frequency of response | Average burden per response (minutes) | Estimated total annual burden (hours) | Average theoretical hourly cost amount (dollars) * | Total annual opportunity cost (dollars) **
SSA-120 (paper version) | 685 | 1 | 2 | 23 | * $48.80 | **$1,122
SSA-120 (Internet version) | 1,482 | 1 | 2 | 49 | * 48.80 | ** 2,391
Total | 2,167 |  |  | 72 |  | *** 3,513
* We based this figure on average Federal Executive Branch worker's hourly wages, as reported by Bureau of Labor Statistics data (https://www.bls.gov/oes/current/naics4_999100.htm).
** This figure does not represent actual costs that SSA is imposing on recipients of Social Security payments to complete this application; rather, these are theoretical opportunity costs for the additional time respondents will spend to complete the application. There is no actual charge to respondents to complete the application.

5. Request to Show Cause for Failure to Appear—20 CFR 404.938, 416.1438, and 404.957(b)(1)—0960-0794. When claimants who requested a hearing before a judge fail to appear at their scheduled hearing, the judge may reschedule the hearing if the claimants establish good cause for missing the hearings. To establish good cause, respondents must show proof of one of the following: (1) SSA did not properly notify the claimant of the hearing; or (2) an unexpected event occurred without sufficient time for the claimant to request a postponement. The claimants can use paper Form HA-L90 or HA-L90-OP1 to provide their reason for not appearing at their scheduled hearings; or the claimants' representatives can use Electronic Records Express (ERE), OMB Control No. 0960-0753, to submit the HA-L90 online. SSA uses the HA-L90 for new cases, and the HA-L90-OP1 for redeterminations cases. We need two versions of the paper form, as the judges follow different procedures when determining the good cause on redetermination cases (cases that have a prior decision and evidence on file), than they do for new cases (where we have no evidence on file). The ERE modality automatically adjusts for redetermination cases, so we only need one version of the internet screens. If the judge determines the claimant established good cause for failure to appear at the hearing, the judge will schedule a supplemental hearing; if not, the judge will make a claims eligibility determination based on the claimants' evidence of record. Respondents are claimants, or their representatives, seeking to establish good cause for failure to appear at a scheduled hearing before a judge.

Type of Request: Revision of an OMB-approved information collection.

Modality of completion | Number of respondents | Frequency of response | Average burden per response (minutes) | Total annual burden (hours) | Average theoretical hourly cost amount (dollars) * | Total annual opportunity cost (dollars) **
HA-L90 | 39,500 | 1 | 10 | 6,583 | * $18.34 | ** $120,732
HA-L90-OP1 | 500 | 1 | 10 | 83 | * 18.34 | ** 1,522
Totals | 40,000 |  |  | 6,666 |  | ** 122,254
* We based this figure on averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: April 22, 2021.
Naomi Sipple,
Reports Clearance Officer, Social Security Administration.

[FR Doc. 2021-08800 Filed 4-27-21; 8:45 am]

BILLING CODE 4191-02-P